DEPARTMENT OF THE INTERIOR

National Park Service

[NPS-WASO-NAGPRA-NPS0040435; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain cultural items that meet the definition of unassociated funerary objects and that have a cultural affiliation with the Indian Tribes or Native Hawaiian organizations in this notice.

DATES: Repatriation of the cultural items in this notice may occur on or after July 28, 2025.

ADDRESSES: Send additional, written requests for repatriation of the cultural items in this notice to Julia Cronin, Turtle Bay Exploration Park, 844 Sundial Bridge Drive, Redding, CA 96001, email jcronin@turtlebay.org.

SUPPLEMENTARY INFORMATION: This notice is published as part of the National Park Service's administrative responsibilities under NAGPRA. The determinations in this notice are the sole responsibility of TBEP, and additional information on the determinations in this notice, including the results of consultation, can be found in the summary or related records. The National Park Service is not responsible for the determinations in this notice.

Abstract of Information Available

A total of one lot of cultural items has been requested for repatriation. The one lot of unassociated funerary objects are Corneline D'aleppo glass trade beads mounted in a large frame.

These beads were purchased by the Redding Museum and Art Center, now Turtle Bay Exploration Park, in 1972 from Troy Crisp, a Texas-born collector who lived briefly in Northern California. Crisp acquired a large collection of Native American and Indigenous Mexican Belongings over his lifetime through vacations, purchases from other collectors, and spending time outdoors hiking and surveying for surface finds. He primarily added to his collection through his business operating heavy equipment to clear brush land. It is unclear how or when he obtained the beads.

Museum records state the beads were “found” in 1969 at a mound in Placerville, California. Mounds are culturally and historically significant to many Native Americans. Based on their location and other factors, the beads were culturally attributed to the Miwok or Maidu. Placerville, the county seat of El Dorado County, California, is near the Shingle Springs Rancheria, whose members are descendants of the Miwok and Maidu peoples who once lived in the region where the beads were recovered.

Turtle Bay Exploration Park does not treat Indigenous Belongings with hazardous materials. However, it is not documented whether these items received treatment prior to the care of the Redding Museum and Art Center.

Determinations

Turtle Bay Exploration Park has determined that:

• The one lot of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Shingle Springs Band of Miwok Indians, Shingle Springs Rancheria (Verona Tract), California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 28, 2025. If competing requests for repatriation are received, TBEP must determine the most appropriate requestor prior to repatriation. Requests for joint repatriation of the cultural items are considered a single request and not competing requests. TBEP is responsible for sending a copy of this notice to the Indian Tribes and Native Hawaiian organizations identified in this notice and to any other consulting parties.

Authority: Native American Graves Protection and Repatriation Act, 25 U.S.C. 3004 and the implementing regulations, 43 CFR 10.9.

Dated: June 17, 2025.
Melanie O'Brien,
Manager, National NAGPRA Program.

[FR Doc. 2025-11937 Filed 6-26-25; 8:45 am]

BILLING CODE 4312-52-P